SECURITIES AND EXCHANGE COMMISSION

[Release No. 34-91214; File No. 265-33]

Asset Management Advisory Committee

AGENCY: Securities and Exchange Commission.

ACTION: Notice of meeting.

SUMMARY: Notice is being provided that the Securities and Exchange Commission Asset Management Advisory Committee (“AMAC”) will hold a public meeting on March 19, 2021, by remote means. The meeting will begin at 9 a.m. (ET) and will be open to the public via webcast on the Commission's website at www.sec.gov. Persons needing special accommodations to take part because of a disability should notify the contact person listed below. The public is invited to submit written statements to the Committee. The meeting will include a discussion of matters in the asset management industry relating to: (1) The ESG Subcommittee, including a panel discussion on that Subcommittee's potential recommendations of December 1, 2020; (2) the Diversity & Inclusion and Private Investments Subcommittees, including potential recommendations from those Subcommittees; and (3) AMAC's agenda for 2021.

DATES: The public meeting will be held on March 19, 2021. Written statements should be received on or before March 15, 2021.

ADDRESSES: The meeting will be held by remote means and webcast on www.sec.gov. Written statements may be submitted by any of the following methods. To help us process and review your statement more efficiently, please use only one method. At this time, electronic statements are preferred.

Electronic Statements

• Use the Commission's internet submission form (http://www.sec.gov/rules/other.shtml); or

• Send an email message to rule-comments@sec.gov. Please include File Number 265-33 on the subject line; or

Paper Statements

• Send paper statements to Vanessa Countryman, Federal Advisory Committee Management Officer, Securities and Exchange Commission, 100 F Street NE, Washington, DC 20549-1090.

All submissions should refer to File No. 265-33. This file number should be included on the subject line if email is used. The Commission will post all statements on the Commission's website at (http://www.sec.gov/comments/265-33/265-33.htm).

Statements also will be available for website viewing and printing in the Commission's Public Reference Room, 100 F Street NE, Room 1580, Washington, DC 20549, on official business days between the hours of 10 a.m. and 3 p.m. For up-to-date information on the availability of the Public Reference Room, please refer to https://www.sec.gov/fast-answers/answerspublicdocshtm.html or call (202) 551-5450.

All statements received will be posted without change. Persons submitting comments are cautioned that we do not redact or edit personal identifying information from submissions. You should submit only information that you wish to make available publicly.

FOR FURTHER INFORMATION CONTACT: Christian Broadbent, Senior Special Counsel, or Jay Williamson, Branch Chief, at (202) 551-6720, Division of Investment Management, Securities and Exchange Commission, 100 F Street NE, Washington, DC 20549-3628.

SUPPLEMENTARY INFORMATION: In accordance with Section 10(a) of the Federal Advisory Committee Act, 5 U.S.C.-App. 1, and the regulations thereunder, Sarah ten Siethoff, Designated Federal Officer of the Committee, has ordered publication of this notice.

Dated: February 26, 2021.
Vanessa A. Countryman,
Committee Management Officer.

[FR Doc. 2021-04394 Filed 3-2-21; 8:45 am]

BILLING CODE P